DEPARTMENT OF COMMERCE

Economic Development Administration

Notice of Petitions by Producing Firms for Determination of Eligibility To Apply for Trade Adjustment Assistance

AGENCY: Economic Development Administration (EDA), Commerce.

ACTION: To give all interested parties an opportunity to comment.

Petitions have been accepted for filing on the dates indicated from the firms listed below.

List of Petition Action by Trade Adjustment Assistance for Period July 22, 2003-August 19, 2003
Firm name | Address | Date petition accepted | Product
Aircraft Precision Products, Inc | 185 Industrial Parkway, Ithaca, MI 48847 | 08/11/03 | Machined parts for aircraft turbine engines.
American Machining Services of Virginia, Inc | 198 Dublin Park Road, Dublin, VA 24084 | 08/11/03 | Machined parts for the coal mining industry.
Best Manufacturers, Inc. | P.O. Box 20091, Portland, OR 97294 | 08/07/03 | Kitchen whips (whisks).
C. F. Roark Welding and Engineering Co., Inc | 136 N. Green Street, Brownsburg, IN 46112 | 08/12/03 | Machined parts for aircraft gas turbine engines.
Cozzoli Machine Company | 50 Schoolhouse Road, Somerset, NJ 08873 | 08/12/03 | Packaging machinery and systems for cleaning, sterilizing, filling and closing applications.
David S. Harsila dba F/V Excel | 20103 23rd Avenue NW, Seattle, WA 98160 | 08/11/03 | Salmon.
Die Cut Technologies, Inc | 10943 Leroy Drive, Northglenn, CO 80233 | 08/19/03 | Gaskets.
LeBaron Foundry, Inc | 14 East Union Street, Brockton, MA 02303 | 08/04/03 | Cast iron frames, covers, rings and grates.
Mack Engineering Corporation | 3215 E. 26th Street, Minneapolis, MN 55406 | 08/07/03 | Machined metal components for hydraulic systems.
North American Rubber Thread Co., Inc | 106 Ferry Street, Fall River, MA 02722 | 07/23/03 | Extruded rubber monofilament thread.
Performance Products, Inc. dba ICO Corporation | 29370 Dinkins Drive, Lacombe, LA 70445 | 08/05/03 | Electrical equipment for motorcycles, including odometers.
Rockford Products Corporation | 707 Harrison Avenue, Rockford, IL 61104 | 08/12/03 | Vehicle steering components.
Ski Country Imports, Inc. and Ouray Sportswear Wyoming, Inc. dba Ouray Sportswear | 3773 S. Jason Street, Englewood, CO 80110 | 08/07/03 | Men's T-shirts.
Western Pennsylvania Steel Fabricating, Inc | RD#3 Wilmington Road, New Castle, PA 16105 | 08/07/03 | Steel storage containers.
Wrangell Seafoods, Inc | 641 Shakes Street, Wrangell, AK 99929 | 08/07/03 | Halibut.
XLI Corporation | 950 Exchange Street, Rochester, NY 14608 | 08/11/03 | Cabinets, components and assemblies for processing data.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: August 21, 2003.
Brenda A. Johnson,
Technical Assistance Specialist, Trade Adjustment and Technical Assistance.

[FR Doc. 03-22006 Filed 8-27-03; 8:45 am]

BILLING CODE 3510-24-P